DEPARTMENT OF TRANSPORTATION

Federal Transit Administration

[FTA Docket No. ITA-2007-27772]

Notice of Request for the Extension of Currently Approved Information Collection

AGENCY: Federal Transit Administration, DOT.

ACTION: Notice and request for comments.

SUMMARY: The Federal Transit Administration invites public comments about our intention to request the Office of Management and Budget's (OMB) approval to renew the following information collection: Pre-Award and Post-Delivery Review Requirements.

The information to be collected for this program is necessary to certify that pre-award and post-delivery reviews will be conducted when using FTA funds to purchase revenue service vehicles.

DATES: Comments must be submitted before June 4, 2007.

ADDRESSES: You may mail or hand deliver comments to the U.S. Department of Transportation, Dockets Management Facility, Room PL-401, 400 Seventh Street, SW., Washington, DC 20590. Comments may also be faxed to (202) 493-2251; or submitted electronically at http://dms.dot.gov. All comments should include the docket number in this notice's heading. All comments may be examined and copied at the above address from 9 a.m. to 5 p.m., Monday through Friday, except federal holidays. If you desire a receipt, you must include a self-addressed, stamped envelope or postcard or, if you submit your comments electronically, you may print the acknowledgement page.

FOR FURTHER INFORMATION CONTACT: Pre-Award and Post-Delivery Review Requirements—John Bell, Office of Program Management, Federal Transit Administration, U.S. DOT, 400 Seventh Street, SW., Washington, DC 20590; phone: (202) 366-4977; or e-mail: john.bell@dot.gov.

SUPPLEMENTARY INFORMATION: Interested parties are invited to send comments regarding any aspect of this information collection, including: (1) The necessity and utility of the information collection for the proper performance of the functions of the FTA; (2) the accuracy of the estimated burden; (3) ways to enhance the quality, utility, and clarity of the collected information; and (4) ways to minimize the collection burden without reducing the quality of the collected information. Comments submitted in response to this notice will be summarized and/or included in the request for OMB approval of this information collection.

Title: Pre-Award and Post-Delivery Review Requirements. (OMB Number: 2132-0544).

Background: Under the Federal Transit Laws, at 49 U.S.C. Section 5323(m), grantees must certify that pre-award and post-delivery reviews will be conducted when using FTA funds to purchase rolling stock and maintain on file these certifications. FTA implements this requirement in 49 CFR Part 663 by describing the certificates that must be submitted by each bidder to assure compliance with the Buy America contract specification and vehicle safety requirements for rolling stock. The information collected on the certification forms is necessary for FTA grantees to meet the requirements of 49 U.S.C. Section 5323(m).

Respondents: State and local government, business or other for-profit institutions, non-profit institutions, and small business organizations.

Estimated Annual Burden on Respondents: 4.32 hours for each of the 700 Respondents.

Estimated Total Annual Burden: 3,024 hours.

Frequency: Annual.

Issued: March 28, 2007.
Ann M. Linnertz,
Associate Administrator for Administration.

[FR Doc. E7-6153 Filed 4-2-07; 8:45 am]

BILLING CODE 4910-57-P